DEPARTMENT OF COMMERCE

International Trade Administration

[A-570-886]

Polyethylene Retail Carrier Bags from the People's Republic of China: Notice of Extension of Time Limit for the Final Results of the Antidumping Duty Administrative Review

AGENCY: Import Administration, International Trade Administration, Department of Commerce.

EFFECTIVE DATE: December 21, 2007.

FOR FURTHER INFORMATION CONTACT: Maisha Cryor, AD/CVD Operations, Office 4, Import Administration, International Trade Administration, U.S. Department of Commerce, 14th Street and Constitution Avenue, NW, Washington, DC 20230; telephone (202) 482-5831.

SUPPLEMENTARY INFORMATION:

Background

On September 29, 2006, the Department of Commerce (“Department”) published a notice of initiation of administrative review of the antidumping duty order on polyethylene retail carrier bags from the People's Republic of China (“PRC”). See Initiation of Antidumping and Countervailing Duty Administrative Reviews, 71 FR 57465 (September 29, 2006). On September 10, 2007, the Department published the preliminary results. See Polyethylene Retail Carrier Bags from the People's Republic of China: Preliminary Results of Antidumping Duty Administrative Review and Partial Rescission of Review, 72 FR 51588 (September 10, 2007). This review covers the period August 1, 2005, through July 31, 2006. The final results are currently due by January 8, 2008.

Extension of Time Limit for Final Results of Review

Pursuant to section 751(a)(3)(A) of the Tariff Act of 1930, as amended (“the Act”), the Department shall make a final determination in an administrative review of an antidumping duty order within 120 days after the date on which the preliminary results were published. The Act further provides, however, that the Department may extend that 120-day period to 180 days after publication of the preliminary results if it determines it is not practicable to complete the review within the foregoing time period.

The Department finds that it is not practicable to complete the final results of the administrative review of polyethylene retail carrier bags from the PRC within the 120-day period due to complex issues the parties have raised regarding the factors of production allocation methodology of Rally Plastics Co., Ltd., a mandatory respondent in this administrative review. In accordance with section 751(a)(3)(A) of the Act, the Department is fully extending the time period for completion of the final results of this review by 60 days to 180 days after the date on which the preliminary results were published. Therefore, the final results are now due no later than March 8, 2008. However, as that date falls on a Saturday, the final results will be due no later than the next business day, Monday, March 10, 2008.

This notice is published in accordance with sections 751(a)(3)(A) and 777(i) of the Act and 19 CFR 351.213(h)(2).

Dated: November 29, 2007.
Stephen J. Claeys,
Deputy Assistant Secretary for Import Administration.

[FR Doc. E7-24852 Filed 12-20-07; 8:45 am]

BILLING CODE 3510-DS-S